DEPARTMENT OF HOMELAND SECURITY

U.S. Citizenship and Immigration Services

[CIS No. 2681-21; DHS Docket No. USCIS-2013-0001]

RIN 1615-ZB72

Extension and Redesignation of Syria for Temporary Protected Status

AGENCY: U.S. Citizenship and Immigration Services (USCIS), Department of Homeland Security (DHS).

ACTION: Notice of Temporary Protected Status (TPS) extension and redesignation.

SUMMARY: Through this notice, the Department of Homeland Security (DHS) announces that the Secretary of Homeland Security (Secretary) is extending the designation of Syria for Temporary Protected Status (TPS) for 18 months, effective October 1, 2022, through March 31, 2024. This extension allows existing TPS beneficiaries to retain TPS through March 31, 2024, so long as they otherwise continue to meet the eligibility requirements for TPS. Existing TPS beneficiaries who wish to extend their status through March 31, 2024, must re-register during the 60-day re-registration period described in this notice. The Secretary is also redesignating Syria for TPS. The redesignation of Syria allows additional Syrian nationals (and individuals having no nationality who last habitually resided in Syria) who have been continuously residing in the United States since July 28, 2022 to apply for TPS for the first time during the initial registration period described under the redesignation information in this notice. In addition to demonstrating continuous residence in the United States since July 28, 2022 and meeting other eligibility criteria, initial applicants for TPS under this designation must demonstrate that they have been continuously physically present in the United States since October 1, 2022, the effective date of this redesignation of Syria for TPS.

DATES:

Extension of Designation of Syria for TPS: The 18-month extension of Syria's designation for TPS is effective on October 1, 2022, and will remain in effect for 18 months, through March 31, 2024. The extension impacts existing beneficiaries of TPS.

Re-registration: The 60-day re-registration period for existing beneficiaries runs from August 1, 2022through September 30, 2022. (Note: It is important for re-registrants to timely re-register during the registration period and not to wait until their Employment Authorization Documents (EADs) expire, as delaying reregistration could result in gaps in their employment authorization documentation.)

Redesignation of Syria for TPS: The 18-month redesignation of Syria for TPS is effective on October 1, 2022, and will remain in effect for 18 months, through March 31, 2024. The redesignation impacts potential first-time applicants and others who do not currently have TPS.

First-time Registration: The initial registration period for new applicants under the Syria TPS redesignation begins on August 1, 2022 and will remain in effect through March 31, 2024.

FOR FURTHER INFORMATION CONTACT: You may contact Rená Cutlip-Mason, Chief, Humanitarian Affairs Division, Office of Policy and Strategy, U.S. Citizenship and Immigration Services, Department of Homeland Security, by mail at 5900 Capital Gateway Drive, Camp Springs, MD 20746, or by phone at 800-375-5283.

For further information on TPS, including guidance on the registration process and additional information on eligibility, please visit the USCIS TPS web page at uscis.gov/tps. You can find specific information about Syria's TPS designation by selecting “Syria” from the menu on the left side of the TPS web page.

If you have additional questions about TPS, please visit uscis.gov/tools. Our online virtual assistant, Emma, can answer many of your questions and point you to additional information on our website. If you are unable to find your answers there, you may also call our USCIS Contact Center at 800-375-5283 (TTY 800-767-1833).

Applicants seeking information about the status of their individual cases may check Case Status Online, available on the USCIS website at uscis.gov, or visit the USCIS Contact Center at uscis.gov/contactcenter.

Further information will also be available at local USCIS offices upon publication of this notice.

SUPPLEMENTARY INFORMATION:

Table of Abbreviations

BIA—Board of Immigration Appeals

CFR—Code of Federal Regulations

DHS—U.S. Department of Homeland Security

DOS—U.S. Department of State

EAD—Employment Authorization Document

FNC—Final Nonconfirmation

Form I-765—Application for Employment Authorization

Form I-797—Notice of Action (Approval Notice)

Form I-821—Application for Temporary Protected Status

Form I-9—Employment Eligibility Verification

Form I-912—Request for Fee Waiver

Form I-94—Arrival/Departure Record

FR—Federal Register

Government—U.S. Government

IER—U.S. Department of Justice, Civil Rights Division, Immigrant and Employee Rights Section

IJ—Immigration Judge

INA—Immigration and Nationality Act

SAVE—USCIS Systematic Alien Verification for Entitlements Program

Secretary—Secretary of Homeland Security

TNC—Tentative Nonconfirmation

TPS—Temporary Protected Status

TTY—Text Telephone

USCIS—U.S. Citizenship and Immigration Services

U.S.C.—United States Code

Purpose of This Action (TPS)

Through this notice, DHS sets forth procedures necessary for nationals of Syria (or individuals having no nationality who last habitually resided in Syria) to (1) re-register for TPS and to apply for renewal of their EADs with USCIS or (2) submit an initial registration application under the redesignation and apply for an EAD.

Re-registration is limited to individuals who have previously registered for TPS under a prior designation of Syria and whose applications have been granted. Failure to re-register properly may result in the withdrawal of your TPS following appropriate procedures. See 8 CFR 244.14.

For individuals who have already been granted TPS under Syria's designation, the 60-day re-registration period runs from August 1, 2022 through September 30, 2022. USCIS will issue new EADs with a March 31, 2024 expiration date to eligible Syrian TPS beneficiaries who timely re-register and apply for EADs. Given the time frames involved with processing TPS re-registration applications, DHS recognizes that not all re-registrants may receive new EADs before their current EADs expire. Accordingly, through this Federal Register notice, DHS automatically extends the validity of certain EADs previously issued under the TPS designation of Syria through September 30, 2023. Therefore, as proof of continued employment authorization through September 30, 2023, TPS beneficiaries can show their EADs that have the notation A-12 or C-19 under Category and a “Card Expires” date of September 30, 2022, March 31, 2021, September 30, 2019, or March 31, 2018. This notice explains how TPS beneficiaries and their employers may determine which EADs are automatically extended and how this affects the Form I-9, Employment Eligibility Verification, E-Verify, and USCIS Systematic Alien Verification for Entitlements (SAVE) processes.

Individuals who have a Syria TPS application (Form I-821) and/or Application for Employment Authorization (Form I-765) that was still pending as of August 1, 2022 do not need to file either application again. If USCIS approves an individual's Form I-821, USCIS will grant the individual TPS through March 31, 2024. Similarly, if USCIS approves a pending TPS-related Form I-765, USCIS will issue the individual a new EAD that will be valid through the same date. There are currently approximately 6,448 beneficiaries under Syria's TPS designation.

Under the redesignation, individuals who currently do not have TPS may submit an initial application during the initial registration period that runs from August 1, 2022 and runs through the full length of the redesignation period ending March 31, 2024.¹ In addition to demonstrating continuous residence in the United States since July 28, 2022 and meeting other eligibility criteria, initial applicants for TPS under this redesignation must demonstrate that they have been continuously physically present in the United States since October 1, 2022,² the effective date of this redesignation of Syria, before USCIS may grant them TPS. DHS estimates that approximately 960 individuals may become newly eligible for TPS under the redesignation of Syria.

¹ In general, individuals must be given an initial registration period of no less than 180 days to register for TPS, but the Secretary has discretion to provide for a longer registration period. See 8 U.S.C. 1254a(c)(1)(A)(iv). In keeping with the humanitarian purpose of TPS and advancing the goal of ensuring “the Federal Government eliminates . . . barriers that prevent immigrants from accessing government services available to them” under Executive Order 14012, Restoring Faith in Our Legal Immigration Systems and Strengthening Integration and Inclusion Efforts for New Americans, 86 FR 8277 (Feb. 5, 2021), the Secretary has recently exercised his discretion to provide for TPS initial registration periods that coincide with the full period of a TPS country's initial designation or redesignation. See, e.g., Designation of Haiti for Temporary Protected Status, 86 FR 41863 (Aug. 3, 2021) (providing 18-mos. registration period under new TPS designation of Haiti); Extension of Initial Registration Periods for New Temporary Protected Status Applicants Under the Designations for Venezuela, Syria and Burma; Correction to the Notice on the Designation of Venezuela for Temporary Protected Status and Implementation of Employment Authorization for Venezuelans Covered by Deferred Enforced Departure, 86 FR 41986 (Aug. 4, 2021) (extending initial registration periods from 180 days to 18 months for the three applicable countries)). For the same reasons, the Secretary is similarly exercising his discretion to provide applicants under this TPS designation of Syria with an 18-month initial registration period.

² The “continuous physical presence date” (CPP) is the effective date of the most recent TPS designation of the country, which is either the publication date of the designation announcement in the Federal Register or such later date as the Secretary may establish. The “continuous residence date” (CR) is any date established by the Secretary when a country is designated (or sometimes redesignated) for TPS. See INA § 244(b)(2)(A) (effective date of designation); 244(c)(1)(A)(i-ii) (discussing CR and CPP date requirements).

What is Temporary Protected Status (TPS)?

• TPS is a temporary immigration status granted to eligible nationals of a foreign state designated for TPS under the INA, or to eligible individuals without nationality who last habitually resided in the designated foreign state, regardless of their country of birth.

• During the TPS designation period, TPS beneficiaries are eligible to remain in the United States, may not be removed, and are authorized to work so long as they continue to meet the requirements of TPS. They may apply for and receive EADs as evidence of employment authorization.

• TPS beneficiaries may also apply for and be granted travel authorization as a matter of discretion.

• To qualify for TPS, beneficiaries must meet the eligibility standards at INA section 244(c)(1)-(2), 8 U.S.C. 1254a(c)(1)-(2).

• When the Secretary terminates a foreign state's TPS designation, beneficiaries return to one of the following:

○ The same immigration status or category that they maintained before TPS, if any (unless that status or category has since expired or terminated); or

○ Any other lawfully obtained immigration status or category they received while registered for TPS, as long as it is still valid beyond the date TPS terminates.

When was Syria designated for TPS?

Syria was initially designated on the basis of extraordinary and temporary conditions that prevented nationals of Syria from returning in safety. See Designation of Syrian Arab Republic for Temporary Protected Status, 77 FR 19026 (Mar. 29, 2012). Following the initial designation, TPS for Syria was extended and newly designated three times: (1) from October 1, 2013, to March 31, 2015, based on ongoing armed conflict and extraordinary and temporary conditions; ³ (2) from April 1, 2015, to September 30, 2016, based on ongoing armed conflict and extraordinary and temporary conditions; ⁴ and (3) from October 1, 2016, to March 31, 2018, based on ongoing armed conflict and extraordinary and temporary conditions.⁵ Thereafter, TPS for Syria was extended from April 1, 2018, to September 30, 2019, based on ongoing armed conflict and extraordinary and temporary conditions ⁶ and October 1, 2019, to March 31, 2021, based on ongoing armed conflict and extraordinary and temporary conditions.⁷ Most recently, TPS for Syria was extended and redesignated from March 31, 2021, to September 30, 2022, based on ongoing armed conflict and extraordinary and temporary conditions.⁸

³ See Extension and Redesignation of Syria for Temporary Protected Status, 78 FR 36223 (June 16, 2013).

⁴ See Extension and Redesignation of the Syrian Arab Republic for Temporary Protected Status, 80 FR 245, (Jan. 4, 2015).

⁵ See Extension and Redesignation of Syria for Temporary Protected Status, 81 FR 50533, (Jul. 31, 2016)

⁶ See Extension of the Designation of Syria for Temporary Protected Status, 83 FR 9329, (Mar. 4, 2018).

⁷ See Extension of the Designation of Syria for Temporary Protected Status, 84 FR 49751, (Sep. 22, 2019)

⁸ See Extension and Redesignation of Syria for Temporary Protected Status, 86 FR 14946, (Mar. 18, 2021).

What authority does the Secretary have to extend the designation of Syria for TPS?

Section 244(b)(1) of the INA, 8 U.S.C. 1254a(b)(1), authorizes the Secretary, after consultation with appropriate agencies of the U.S. Government, to designate a foreign state (or part thereof) for TPS if the Secretary determines that certain country conditions exist.⁹ The decision to designate any foreign state (or part thereof) is a discretionary decision, and there is no judicial review of any determination with respect to the designation, termination, or extension of a designation. See INA section 244(b)(5)(A); 8 U.S.C. 1254a(b)(5)(A).¹⁰ The Secretary, in his or her discretion, may then grant TPS to eligible nationals of that foreign state (or individuals having no nationality who last habitually resided in the designated foreign state). See INA section 244(a)(1)(A), 8 U.S.C. 1254a(a)(1)(A).

⁹ INA § 244(b)(1) ascribes this power to the Attorney General. Congress transferred this authority from the Attorney General to the Secretary of Homeland Security. See Homeland Security Act of 2002, Public Law 107-296, 116 Stat. 2135. The Secretary may designate a country (or part of a country) for TPS on the basis of ongoing armed conflict such that returning would pose a serious threat to the personal safety of the country's nationals and habitual residents, environmental disaster (including an epidemic), or extraordinary and temporary conditions in the country that prevent the safe return of the country's nationals. For environmental disaster-based designations, certain other statutory requirements must be met, including that the foreign government must request TPS. A designation based on extraordinary and temporary conditions cannot be made if the Secretary finds that allowing the country's nationals to remain temporarily in the United States is contrary to the U.S. national interest. Id., at § 244(b)(1).

¹⁰ This issue of judicial review is the subject of litigation. See, e.g., Ramos v. Wolf, 975 F.3d 872 (9th Cir. 2020), petition for en banc rehearing filed Nov. 30, 2020 (No. 18-16981); Saget v. Trump, 375 F. Supp. 3d 280 (E.D.N.Y. 2019).

At least 60 days before the expiration of a foreign state's TPS designation or extension, the Secretary, after consultation with appropriate U.S. Government agencies, must review the conditions in the foreign state designated for TPS to determine whether they continue to meet the conditions for the TPS designation. See INA section 244(b)(3)(A), 8 U.S.C. 1254a(b)(3)(A). If the Secretary determines that the foreign state continues to meet the conditions for TPS designation, the designation will be extended for an additional period of 6 months or, in the Secretary's discretion, 12 or 18 months. See INA section 244(b)(3)(A), (C), 8 U.S.C. 1254a(b)(3)(A), (C). If the Secretary determines that the foreign state no longer meets the conditions for TPS designation, the Secretary must terminate the designation. See INA section 244(b)(3)(B), 8 U.S.C. 1254a(b)(3)(B).

What is the Secretary's authority to redesignate Syria for TPS?

In addition to extending an existing TPS designation, the Secretary, after consultation with appropriate Government agencies, may redesignate a country (or part thereof) for TPS. See section 244(b)(1) of the Act, 8 U.S.C. 1254a(b)(1); see also section 244(c)(1)(A)(i) of the Act, 8 U.S.C. 1254a(c)(1)(A)(i) (requiring that “the alien has been continuously physically present since the effective date of the most recent designation of the state”).

When the Secretary designates or redesignates a country for TPS, the Secretary also has the discretion to establish the date from which TPS applicants must demonstrate that they have been “continuously resid[ing]” in the United States. See section 244(c)(1)(A)(ii) of the Act, 8 U.S.C. 1254a(c)(1)(A)(ii). The Secretary has determined that the “continuous residence” date for applicants for TPS under the redesignation of Syria will be July 28, 2022. Initial applicants for TPS under this redesignation must also show they have been “continuously physically present” in the United States since October 1, 2022, which is the effective date of the Secretary's redesignation, of Syria. See section 244(c)(1)(A)(i) of the Act, 8 U.S.C. 1254a(c)(1)(A)(i). For each initial TPS application filed under the redesignation, the final determination of whether the applicant has met the “continuous physical presence” requirement cannot be made until October 1, 2022, the effective date of this redesignation for Syria. USCIS, however, will issue employment authorization documentation, as appropriate, during the registration period in accordance with 8 CFR 244.5(b).

Why is the Secretary extending the TPS designation for Syria and simultaneously redesignating Syria for TPS through March 31, 2024?

DHS has reviewed country conditions in Syria. Based on the review, including input received from the Department of State (DOS) and other U.S. Government agencies, the Secretary has determined that an 18-month TPS extension is warranted because the ongoing armed conflict and extraordinary and temporary conditions supporting Syria's TPS designation remain. The Secretary has further determined that the conditions support redesignating Syria for TPS under section 244(b)(3)(C), 8 U.S.C. 1254a(b)(3)(C) of the Act and is changing the “continuous residence” and “continuous physical presence” dates that applicants must meet to be eligible for TPS.

Overview

DHS has conducted a thorough review of country conditions in Syria. The ongoing civil war has resulted in large-scale destruction of infrastructure, mass displacement of civilians, high levels of food insecurity, limited access to water and medical care, and widespread civilian casualties. These impacts have been compounded by the COVID-19 pandemic which has contributed to the further breakdown of the economy and strained an already overburdened healthcare system.

The United Nations (UN) has verified that at least 350,209 identified civilians and combatants were killed between March 2011 and March 2021, including 26,727 women and 27,126 children, but it has warned that this figure “indicates a minimum verifiable number” and is an “undercount of the actual number.” ¹¹ The Syrian Observatory for Human Rights (SOHR), a UK-based monitoring group with a network of sources on the ground, had documented the deaths of 494,438 people as of June 2021 and said that at least 159,774 civilians had been killed.¹² The group estimated that the actual toll from the war was more than 606,000, saying 47,000 civilians were believed to have died of torture in government-run prisons.¹³ Another monitoring group, the Violations Documentation Center, which relies on information from activists across the country, had documented 239,251 battle-related deaths, including 145,240 civilians, as of June 2022.¹⁴ Additionally, the ongoing military operations have injured more than 2.1 million Syrian civilians with varying injuries, wounds, and permanent disabilities.¹⁵

¹¹ This count includes “only those people identifiable by full name, with an established date of death, and who died in an identified governorate” and was sourced from OHCHR's own data, records maintained by civil society organizations, and information from the Syrian government. UNOHCR, “Oral update on the extent of conflict-related deaths in the Syrian Arab Republic | OHCHR” (September 24, 2021), https://www.ohchr.org/en/statements/2021/09/oral-update-extent-conflict-related-deaths-syrian-arab-republic?LangID=E&NewsID=27531.

¹² SOHR, “Total death toll | Over 606,000 people killed across Syria since the beginning of the “Syrian Revolution”, including 495,000 documented by SOHR (June 1, 2021), https://www.syriahr.com/en/217360/.

¹³ SOHR, “Total death toll | Over 606,000 people killed across Syria since the beginning of the “Syrian Revolution”, including 495,000 documented by SOHR (June 1, 2021), https://www.syriahr.com/en/217360/.

¹⁴ Violation Documentation Center, “Monthly statistical on casualties in Syria, June 2022” (June 2022), https://scm.bz/en/violations-watch/monthly-statistical-on-casualities-in-syria-june-2022.

¹⁵ SOHR, “Total death toll | Over 606,000 people killed across Syria since the beginning of the “Syrian Revolution”, including 495,000 documented by SOHR (June 1, 2021), https://www.syriahr.com/en/217360/.

Eleven years of war have inflicted immense suffering on the Syrian people. More than half of Syria's pre-war population of 22 million have either fled the country or are displaced within its borders.¹⁶ Syria remains the world's largest displacement crisis.¹⁷ The number of Syrian IDPs to date is approximately 7 million people.¹⁸

¹⁶ UNHCR, “Eleven years on, mounting challenges push many displaced Syrians to the brink” (March 15, 2022), https://www.unhcr.org/en-us/news/briefing/2022/3/623055174/eleven-years-mounting-challenges-push-displaced-syrians-brink.html.

¹⁷ UNHCR, “Eleven years on, mounting challenges push many displaced Syrians to the brink” (Mar 15, 2022), https://www.unhcr.org/en-us/news/briefing/2022/3/623055174/eleven-years-mounting-challenges-push-displaced-syrians-brink.html.

¹⁸ USAID, “Syria—Complex Emergency Fact Sheet #4, Fiscal Year (FY) 2022” (Mar 4, 2022), https://reliefweb.int/report/syrian-arab-republic/syria-complex-emergency-fact-sheet-4-fiscal-year-fy-2022.

Harm to civilians has been widespread, but the magnitude of violence has varied greatly by location. Parties to the Syrian conflict killed 1,271 civilians in 2021, including 299 children and 134 women.¹⁹ Both government and opposition forces reportedly engage in indiscriminate attacks through the use of airstrikes, explosives, snipers, and rocket and mortar attacks, killing thousands and leaving many without the means or ability to escape the violence.²⁰ Since 2021, cities as far north as Idlib, and as far south as Daraa have seen heavy civilian casualties as well as damage to civilian objects.²¹

¹⁹ Syrian Network for Human Rights, “Eleventh Annual Report: The Most Notable Human Rights Violations in Syria in 2021” (Jan 21, 2022), https://snhr.org/wp-content/pdf/english/Eleventh_Annual_Report_The_Most_Notable_Human_Rights_Violations_in_Syria_in_2021_en.pdf.

²⁰ Human Rights Watch, “Syria: Events of 2021” (Jan. 2022), https://www.hrw.org/world-report/2022/country-chapters/syria.

²¹ Human Rights Watch, “Syria: Events of 2021” (Jan. 2022), https://www.hrw.org/world-report/2022/country-chapters/syria.

Multiple actors in the conflict have been accused of targeting civilians and civilian facilities. In January 2022, Russia conducted airstrikes on the Al Arshani Water Pump Station located west of Idlib city, injuring at least one station worker, causing substantial damage to the station's buildings and equipment, and forcing the station's main water pumping pipe temporarily out of service.²² In February 2022, there were at least six incidents of attacks impacting vital civilian facilities, among them, a school, two markets, a park, and a livestock farm.²³ In April 2022, ISIS claimed responsibility for an attack on civilians gathering for an iftar meal during Ramadan, killing seven people and wounding four.²⁴ Also in April 2022, Syrian government forces shelled a village in north Idlib countryside, killing at least three students on their way to school.²⁵ According to the Syrian Civil Defense, Russian and Syrian forces and allied militias have launched 130 air and artillery attacks on northwestern Syria during the first quarter of 2022.²⁶ These attacks struck civilian homes, public buildings, and service facilities, killing⁴⁷ people and wounding more than 100 others.²⁷

²² Syrian Archive, “Airstrikes on the Al Arshani Water Pump Station in Idlib” (February 14, 2022), https://syrianarchive.org/en/investigations/arshani.

²³ Syrian Network for Human Rights, “The Most Notable Human Rights Violations in Syria in February 2022,” (Mar. 4, 2022), https://snhr.org/wp-content/uploads/2022/03/M220303E.pdf.

²⁴ Syrian Observatory for Human Rights, “SOHR: Daesh kills 7 Syrians at Ramadan iftar meal” (Apr 29, 2022), https://www.syriahr.com/en/249367/.

²⁵ Syrian Observatory for Human Rights, “Regime offensive | Three students killed in regime rocket attack on area in Idlib countryside” (Apr 4, 2022), https://www.syriahr.com/en/245693/.

²⁶ Euro-Med Monitor, “Killing 4 children in Syrian regime bombardment may amount to war crime” (Apr 5, 2022), https://reliefweb.int/report/syrian-arab-republic/killing-4-children-syrian-regime-bombardment-may-amount-war-crime-enar.

²⁷ Euro-Med Monitor, “Killing 4 children in Syrian regime bombardment may amount to war crime,” (April 6, 2022), https://reliefweb.int/report/syrian-arab-republic/killing-4-children-syrian-regime-bombardment-may-amount-war-crime-enar.

Mandatory military service has been the law in Syria since 2007.²⁸ Men from the ages of 18 to 42 are required to serve, and women may enlist voluntarily.²⁹ Conscripts are required to serve for 18 to 21 months, depending on their level of education.³⁰ Syria has intermittently declared amnesties for military service evaders to encourage returns, however, “returnees have found themselves back on conscription lists in as little as seven days, after the government exploited a loophole in the decree,” thereby rendering the amnesty provisions meaningless.³¹ In February 2021, the Syrian regime announced an amendment to the military conscription laws. Under the amended law, those who did not do military service before the age of 43 must pay $8,000, or lose their property without notice or any right to appeal.³²

²⁸ The Tahrir Institute for Middle East Policy, “TIMEP Brief: Conscription Law” (Aug 22, 2019), https://timep.org/reports-briefings/timep-brief-conscription-law/.

²⁹ The Tahrir Institute for Middle East Policy, “TIMEP Brief: Conscription Law” (Aug 22, 2019), https://timep.org/reports-briefings/timep-brief-conscription-law/.

³⁰ The Tahrir Institute for Middle East Policy, “TIMEP Brief: Conscription Law” (Aug 22, 2019), https://timep.org/reports-briefings/timep-brief-conscription-law/.

³¹ Human Rights Watch, “Our Lives are Like Death” (Oct. 2021), https://www.hrw.org/sites/default/files/media_2021/10/syria1021_web.pdf.

³² Human Rights Watch, “Syrian `Military Evaders' Face Unlawful Seizure of Property, Assets” (Feb 9, 2021), https://www.hrw.org/news/2021/02/09/syrian-military-evaders-face-unlawful-seizure-property-assets.

The Syrian Democratic Forces and other entities in Syria have also been accused of forced conscription: “[The Syrian Network for Human Rights (SNHR)] . . . recorded Syrian Democratic Forces kidnapping two children [in January 2022] with the aim of taking them to its training and recruitment camps and forcibly conscripting them . . .” ³³ Further, compulsory recruitment under the “Law on Mandatory Self-Defense Duty” was first introduced in 2014 and is confined to the areas of northern and eastern Syria under the control of the Kurdish-led Autonomous Administration.³⁴ Under this law, conscription is mandatory for all male residents, both Syrian nationals and stateless Kurds, after reaching 18 years old. Syrians from other parts of the country who have resided in the area longer than five years are obligated to join as well.³⁵

³³ Syrian Network for Human Rights, “143 Arbitrary Arrests/Detentions Documented in Syria in January 2022,” including 2 children, (Feb. 2, 2022), https://snhr.org/wp-content/pdf/english/143_Arbitrary_Arrests_Detentions_Documented_in_Syria_in_January_2022_Including_Two_Children_en.pdf.

³⁴ European Union Agency for Asylum, “Persons fearing forced or child recruitment by Kurdish forces,” (last updated Sept. 2020), https://euaa.europa.eu/country-guidance-syria/26-persons-fearing-forced-or-child-recruitment-kurdish-forces.

³⁵ European Union Agency for Asylum, “Persons fearing forced or child recruitment by Kurdish forces,” (last updated Sept. 2020), https://euaa.europa.eu/country-guidance-syria/26-persons-fearing-forced-or-child-recruitment-kurdish-forces.

Syrian children have suffered disproportionately since the start of the conflict. At least 29,661 children have been killed in Syria since March 2011, including 181 due to torture, in addition to 5,036 arrested or forcibly disappeared children.³⁶ The SNHR estimates that there are at least 1,374 children currently serving in the Syrian regime forces.³⁷ Other actors in the conflict are also accused of engaging in forced conscription of children. These include: Hay'at Tahrir al Sham, Syrian Democratic Forces, factions of the Syrian National Army (SNA), Al-Nusra Front, ISIS, as well as Iranian militias or militias supported by Iran.³⁸ According to the United Nations High Commissioner for Refugees (UNHCR), there are currently at least 2.5 million displaced children in Syria.³⁹ The United Nations Children's Fund (UNICEF) reported 6.5 million children in need of humanitarian assistance in a March 2022 report.⁴⁰

³⁶ Syrian Network for Human Rights (SNHR). ”On World Children's Day; Tenth Annual Report on Violations against Children in Syria” (Nov. 20, 2021), https://reliefweb.int/report/syrian-arab-republic/world-children-s-day-tenth-annual-report-violations-against-children.

³⁷ Syrian Network for Human Rights (SNHR). ”On World Children's Day; Tenth Annual Report on Violations against Children in Syria” (Nov. 20, 2021), https://reliefweb.int/report/syrian-arab-republic/world-children-s-day-tenth-annual-report-violations-against-children.

³⁸ Syrian Network for Human Rights (SNHR). ”On World Children's Day; Tenth Annual Report on Violations against Children in Syria” (Nov. 20, 2021), https://reliefweb.int/report/syrian-arab-republic/world-children-s-day-tenth-annual-report-violations-against-children.

⁴⁰ UNICEF, “Whole of Syria Humanitarian Situation Report: March 2022,” (May 15, 2022), https://reliefweb.int/report/syrian-arab-republic/unicef-whole-syria-humanitarian-situation-report-march-2022.

Human rights abuses continue to be rampant in Syria. One report cites 2,218 cases of arbitrary arrest or detention, including 85 children and 77 women, committed by parties to the conflict and controlling forces in 2021, almost half of which were attributed to the Assad regime.⁴¹ The same report notes that at least 104 individuals were documented as dying as a result of torture in 2021 at the hands of Syrian regime forces, Syrian Democratic Forces, Hay'at Tahrir al Sham, factions of the Syrian National Army as well as other parties to the conflict.⁴² Furthermore, individuals returning to Syria have reported that the Syrian government or its affiliated militias subjected them or their family members to arbitrary arrest or detention, torture and other cruel, inhuman or degrading treatment, kidnappings, and extrajudicial killings after their return to Syria.⁴³ Human Rights Watch has reported “21 cases of arrest and arbitrary detention . . .” 13 cases of torture, 3 kidnappings, 5 extrajudicial killings, and 17 enforced disappearances between 2017 and 2021 among refugees who had returned to Syria from Jordan and Lebanon.” ⁴⁴

⁴¹ Syrian Network for Human Rights, “Eleventh Annual Report: The Most Notable Human Rights Violations in Syria in 2021” (Jan 21, 2022), https://snhr.org/wp-content/pdf/english/Eleventh_Annual_Report_The_Most_Notable_Human_Rights_Violations_in_Syria_in_2021_en.pdf.

⁴² Syrian Network for Human Rights, “Eleventh Annual Report: The Most Notable Human Rights Violations in Syria in 2021” (Jan 21, 2022), https://snhr.org/wp-content/pdf/english/Eleventh_Annual_Report_The_Most_Notable_Human_Rights_Violations_in_Syria_in_2021_en.pdf.

⁴³ Human Rights Watch. ”Our Lives are Like Death” (Oct. 2021), https://www.hrw.org/sites/default/files/media_2021/10/syria1021_web.pdf.

⁴⁴ Human Rights Watch, “Syria: Events of 2021” (Jan. 2022), https://www.hrw.org/world-report/2022/country-chapters/syria.

After 11 years of conflict, Syria's healthcare system has suffered gravely. As of March 2022, Physicians for Human Rights has documented and verified 601 attacks hitting at least 350 health facilities since the start of the conflict.⁴⁵ A January 2022 report states that more than 50% of healthcare workers are estimated to have left the country in the last decade.⁴⁶ Out of the almost 1,800 available public health centers, 45% were not fully functioning as of September 2021, at a time when the Syrian people needed them the most amidst the COVID-19 pandemic.⁴⁷ Seven medical personnel were killed in Syria in 2021 at the hands of parties to the conflict and controlling forces in Syria.⁴⁸ The COVID-19 pandemic has further exacerbated shortcomings in an already weakened healthcare system. The UN identifies Syria as one of the countries in the Middle East most severely affected by the COVID-19 pandemic, particularly as low vaccine availability, vaccine hesitancy, infections among frontline health workers, high transmission rates in IDP camps, oxygen supply shortages, inadequate testing materials, and limited cold chain and technical capacity hamper infection prevention, monitoring, and response efforts.⁴⁹ As of March 2022, 11.4% of the total population had received at least one dose of the COVID-19 vaccine, and only 6.6% were fully vaccinated.⁵⁰

⁴⁵ International Rescue Committee, “11 years of violence against health care in Syria” (Mar 31, 2022), https://www.rescue.org/resource/11-years-violence-against-health-care-syria.

⁴⁶ UNOCHA, “Situation Report #35: Recent Developments in Northwest Syria and RAATA” (Jan 2022), https://www.humanitarianresponse.info/en/operations/stima/document/situation-report-35-recent-developments-northwest-syria-and-raata-january.

⁴⁷ International Rescue Committee, “11 years of violence against health care in Syria” (Mar 31, 2022), https://www.rescue.org/resource/11-years-violence-against-health-care-syria.

⁴⁸ Syrian Network for Human Rights, “Eleventh Annual Report: The Most Notable Human Rights Violations in Syria in 2021” (Jan 21, 2022), https://snhr.org/wp-content/pdf/english/Eleventh_Annual_Report_The_Most_Notable_Human_Rights_Violations_in_Syria_in_2021_en.pdf.

⁴⁹ USAID, “Syria—Complex Emergency Fact Sheet #4, Fiscal Year (FY) 2022” (Mar 4, 2022), https://reliefweb.int/report/syrian-arab-republic/syria-complex-emergency-fact-sheet-4-fiscal-year-fy-2022.

⁵⁰ World Health Organization, “Monthly COVID-19 Bulletin: March 2022,” (Mar. 26, 2022), https://reliefweb.int/sites/reliefweb.int/files/resources/monthly_covid-19_bulletin-march_2022.pdf.

According to the World Food Program (WFP), at least 12.4 million Syrians, out of an estimated population of 16 million, are food insecure.⁵¹ This 2021 estimate reflects an increase of 3.1 million food insecure people in one year.⁵² Moreover, according to the same report, more than 600,000 children are chronically malnourished.⁵³ The United Nations Office for the Coordination of Humanitarian Affairs (UNOCHA) reports that routine shortages in basic goods, including bread and fuel, have become commonplace and the number of people in need of humanitarian assistance increased by 21% in 2021—reaching a total of 13.4 million people, with 1.48 million in “catastrophic” need.⁵⁴ The price of the national food basket ⁵⁵ increased by 24% from February to March 2022, the greatest monthly increase and the highest price recorded since tracking began in 2013.⁵⁶

⁵¹ Human Rights Watch, “Syria: Events of 2021” (Jan. 2022), https://www.hrw.org/world-report/2022/country-chapters/syria.

⁵² Human Rights Watch, “Syria: Events of 2021” (Jan. 2022), https://www.hrw.org/world-report/2022/country-chapters/syria.

⁵³ Human Rights Watch, “Syria: Events of 2021” (Jan. 2022), https://www.hrw.org/world-report/2022/country-chapters/syria.

⁵⁴ Human Rights Watch, “Syria: Events of 2021” (Jan. 2022), https://www.hrw.org/world-report/2022/country-chapters/syria.

⁵⁵ The UN's Food and Agriculture Organization (FAO) issues a monthly food price index, a measure of change in international prices of a basket of food commodities. See United Nations, “Global Issues: Food” (last visited 6/27/2022), https://www.un.org/en/global-issues/food. A national food basket is a group of essential food commodities. In Syria, the food basket is set at a group of dry goods providing 2,060 kcal a day for a family of five during a month. The basket includes 37 kg bread, 19 kg rice, 19 kg lentils, 5 kg of sugar, and 7 liters of vegetable oil. See World Food Program, “Syria Country Office Market Price Watch Bulletin Issue 88, March 2022, (Apr. 27, 2022), https://reliefweb.int/report/syrian-arab-republic/syria-country-office-market-price-watch-bulletin-issue-88-march-2022.

⁵⁶ UNICEF, “Whole of Syria Humanitarian Situation Report: March 2022,” (May 15, 2022), https://reliefweb.int/report/syrian-arab-republic/unicef-whole-syria-humanitarian-situation-report-march-2022.

In 2021, Syria was impacted by several climate and natural resource-related shocks. Erratic rainfall as well as historically low water levels in the Euphrates River have reduced access to water for drinking and domestic use for over five million people.⁵⁷ In addition, this has triggered substantial harvest and income losses, decreased hydroelectricity generation, and increased water-borne illnesses.⁵⁸ Northern Syria is experiencing severe water shortages as a result of higher-than-average temperatures.⁵⁹ Of 1,087 UNICEF beneficiaries surveyed across Syria in February and March 2022, 15% reported water availability once a week or less and 19% reported no water availability.⁶⁰

⁵⁷ UNOCHA, “2022 Humanitarian Needs Overview: Syrian Arab Republic” (Feb 22, 2022), https://reliefweb.int/report/syrian-arab-republic/2022-humanitarian-needs-overview-syrian-arab-republic-february-2022.

⁵⁸ UNOCHA, “2022 Humanitarian Needs Overview: Syrian Arab Republic” (Feb 22, 2022), https://reliefweb.int/report/syrian-arab-republic/2022-humanitarian-needs-overview-syrian-arab-republic-february-2022.

⁵⁹ International Rescue Committee, ”Crisis in Syria: Economic crisis compounds over a decade of war” (Mar. 15, 2022), https://www.rescue.org/article/crisis-syria-economic-crisis-compounds-over-decade-war.

⁶⁰ UNICEF, “Whole of Syria Humanitarian Situation Report: March 2022,” (May 15, 2022), https://reliefweb.int/report/syrian-arab-republic/unicef-whole-syria-humanitarian-situation-report-march-2022.

In October 2021, the World Bank estimated that the Syrian economy had shrunk by more than 60% since 2010.⁶¹ Between October 2019 and October 2021, the Syrian pound lost 82% of its value against the dollar.⁶² UNOCHA estimated that, in 2021, 90% of the population lived below the poverty line.⁶³ An April 2022 World Bank report indicates that “the continued depreciation of the local currency has led to rampant inflation, worsening already high food insecurity and pushing more people into poverty.” ⁶⁴ A UN report from April 2022 estimates that 14.6 million people are in need of humanitarian assistance, which is a 9% increase from the previous year.⁶⁵

⁶¹ Human Rights Watch, ”Our Lives Are Like Death” (Oct. 2021), https://www.hrw.org/sites/default/files/media_2021/10/syria1021_web.pdf.

⁶² International Rescue Committee, ”Crisis in Syria: Economic crisis compounds over a decade of war” (Mar. 15, 2022), https://www.rescue.org/article/crisis-syria-economic-crisis-compounds-over-decade-war

⁶³ Human Rights Watch, “Syria: Events of 2021” (Jan. 2022), https://www.hrw.org/world-report/2022/country-chapters/syria.

⁶⁴ World Bank. “Macro Poverty Outlook for Syria: April 2022” (April 2022), http://documents.worldbank.org/curated/en/099039004242232398/IDU0107dbcc10f799044b70bc070ac75483e6628.

⁶⁵ UNHCR, “Syria: UNHCR Operational Update, April 2022” (May 12, 2022), https://reliefweb.int/report/syrian-arab-republic/syria-unhcr-operational-update-april-2022.

In summary, the ongoing conflict, compounded by economic downturn, food insecurity, water insecurity, the COVID-19 pandemic, a weakened healthcare system, weakened civilian infrastructure, human rights violations and abuses, violations of the law of armed conflict, forced conscription and mass displacement have an enormous human cost for the Syrian people.

Based upon this review and after consultation with appropriate U.S. Government agencies, the Secretary has determined that:

• The conditions supporting Syria's designation for TPS continue to be met. See INA section 244(b)(3)(A) and (C), 8 U.S.C. 1254a(b)(3)(A) and (C).

• There continues to be an ongoing armed conflict in Syria and, due to such conflict, requiring the return to Syria of Syrian nationals (or individuals having no nationality who last habitually resided in Syria) would pose a serious threat to their personal safety. See INA section 244(b)(1)(A), 8 U.S.C. 1254a(b)(1)(A).

• There continue to be extraordinary and temporary conditions in Syria that prevent Syrian nationals (or individuals having no nationality who last habitually resided in Syria) from returning to Syria in safety, and it is not contrary to the national interest of the United States to permit Syrian TPS beneficiaries to remain in the United States temporarily. See INA section 244(b)(1)(C), 8 U.S.C. 1254a(b)(1)(C).

• The designation of Syria for TPS should be extended for an 18-month period, from October 1, 2022, through March 31, 2024. See INA section 244(b)(3)(C), 8 U.S.C. 1254a(b)(3)(C).

• Due to the conditions described above, Syria should be simultaneously extended and redesignated for TPS effective October 1, 2022, through, 2024. See section 244(b)(1)(A) and (C) and (b)(2) of the Act, 8 U.S.C. 1254a(b)(1)(A) and (C) and (b)(2).

• The Secretary has determined that TPS applicants must demonstrate that they have continuously resided in the United States since July 28, 2022.

• Initial TPS applicants under the redesignation must demonstrate that they have been continuously physically present in the United States since October 1, 2022, the effective date of the redesignation of Syria for TPS.

• There are approximately 6,448 current Syria TPS beneficiaries who are expected to be eligible to re-register for TPS under the extension.

• It is estimated that approximately 960 additional individuals may be eligible for TPS under the redesignation of Syria. This population includes Syrian nationals in the United States in nonimmigrant status or without immigration status.

Notice of the Designation of Syria for TPS

By the authority vested in me as Secretary under INA section 244, 8 U.S.C. 1254a, I have determined, after consultation with the appropriate U.S. Government agencies, the statutory conditions supporting Syria's designation for TPS on the basis of ongoing armed conflict and extraordinary and temporary conditions are met. See INA section 244(b)(1)(A), 8 U.S.C. 1254a(b)(1)(A) and INA section 244(b)(1)(C), 8 U.S.C. 1254a(b)(1)(C). On the basis of this determination, I am simultaneously extending the existing designation of TPS for Syria for 18 months, from October 1, 2022, through March 31, 2024, and redesignating Syria for TPS for the same 18-month period. See INA section 244(b)(1)(A), (b)(1)(C) and (b)(2); 8 U.S.C. 1254a(b)(1)(A), (b)(1)(C), and (b)(2).

Alejandro N. Mayorkas,
Secretary, U.S. Department of Homeland Security.

Eligibility and Employment Authorization for TPS

Required Application Forms and Application Fees To Register for TPS

To register for TPS based on the designation of Syria, you must submit a Form I-821, Application for Temporary Protected Status, and pay the filing fee (or request a fee waiver, which you may submit on Form I-912, Request for Fee Waiver). You may be required to pay the biometric services fee. If you can demonstrate an inability to pay the biometric services fee, you may request to have the fee waived. Please see additional information under the “Biometric Services Fee” section of this notice.

TPS beneficiaries are authorized to work in the United States. You are not required to submit Form I-765 or have an EAD, but see below for more information if you want to work in the United States.

Individuals who have a Syria TPS application (Form I-821) that was still pending as of August 1, 2022 do not need to file the application again. If USCIS approves an individual's Form I-821, USCIS will grant the individual TPS through March 31, 2024.

For more information on the application forms and fees for TPS, please visit the USCIS TPS web page at uscis.gov/tps. Fees for the Form I-821, the Form I-765, and biometric services are also described in 8 CFR 103.7(b)(1)(i).

How can TPS beneficiaries obtain an Employment Authorization Document (EAD)?

Every employee must provide their employer with documentation showing that they have the legal right to work in the United States. TPS beneficiaries are eligible to obtain an EAD, which proves their legal right to work. Those who want to obtain an EAD must file a Form I-765, Application for Employment Authorization, and pay the Form I-765 fee (or request a fee waiver, which you may submit on Form I-912, Request for Fee Waiver). TPS applicants may file this form along with their TPS application, or at a later date, provided their TPS application is still pending or has been approved. Beneficiaries with a Syrian TPS-related Form I-765 that was still pending as of August 1, 2022 do not need to file the application again. If USCIS approves a pending TPS-related Form I-765, USCIS will issue the individual a new EAD that will be valid through the same date.

Refiling an Initial TPS Registration Application After Receiving a Denial of a Fee Waiver Request

If you receive a denial of a fee waiver request, you must refile your Form I-821 for TPS along with the required fees during the registration period, which extends until March 31, 2024. You may also file for your Employment Authorization Document on Form I-765 with payment of the fee along with your TPS application or at any later date you decide you want to request an EAD during the registration period.

Filing Information

USCIS offers the option to applicants for TPS under Syria's designation to file Form I-821 and related requests for EADs online or by mail. When filing a TPS application, applicants can also request an EAD by submitting a completed Form I-765, Request for Employment Authorization, with their Form I-821.

Online filing: Form I-821 and I-765 are available for concurrent filing online.⁶⁶ To file these forms online, you must first create a USCIS online account.⁶⁷

⁶⁶ Find information about online filing at “Forms Available to File Online,” https://www.uscis.gov/file-online/forms-available-to-file-online.

⁶⁷ https://myaccount.uscis.gov/users/sign_up.

Mail filing: Mail your application for TPS to the proper address in Table 1.

Table 1-Mailing Addresses

Mail your completed Form I-821, Application for Temporary Protected Status; Form I-765, Application for Employment Authorization; Form I-912, Request for Fee Waiver (if applicable); and supporting documentation to the proper address in Table 1.

Table 1—Mailing Addresses
If . . . | Mail to . . .
You are using the U.S. Postal Service (USPS) | USCIS, Attn: TPS Syria, P.O. Box 6943, Chicago, IL 60680-6943.
You are using FedEx, UPS, or DHL | USCIS, Attn: TPS Syria (Box 6943), 131 S Dearborn 3rd Floor, Chicago, IL 60603-5517.

If you were granted TPS by an immigration judge (IJ) or the Board of Immigration Appeals (BIA) and you wish to request an EAD, please mail your Form I-765 application to the appropriate mailing address in Table 1. When you are requesting an EAD based on an IJ/BIA grant of TPS, please include a copy of the IJ or BIA order granting you TPS with your application. This will help us verify your grant of TPS and process your application.

Supporting Documents

The filing instructions on the Form I-821 list all the documents needed to establish eligibility for TPS. You may also find information on the acceptable documentation and other requirements for applying (that is, registering) for TPS on the USCIS website at uscis.gov/tps under “Syria.”

Travel

TPS beneficiaries may also apply for and be granted travel authorization as a matter of discretion. You must file for travel authorization if you wish to travel outside of the United States. If granted, travel authorization gives you permission to leave the United States and return during a specific period. To request travel authorization, you must file Form I-131, Application for Travel Document, available at www.uscis.gov/i-131. You may file Form I-131 together with your Form I-821 or separately. When filing the Form I-131, you must:

• Select Item Number 1.d. in Part 2 on the Form I-131; and

• Submit the fee for the Form I-131, or request a fee waiver, which you may submit on Form I-912, Request for Fee Waiver.

If you are filing Form I-131 together with Form I-821, send your forms to the address listed in Table 1. If you are filing Form I-131 separately based on a pending or approved Form I-821, send your form to the address listed in Table 2 and include a copy of Form I-797 for the approved or pending Form I-821.

Table 2—Mailing Addresses
If you are . . . | Mail to . . .
Filing Form I-131 together with a Form I-821, Application for Temporary Protected Status | The address provided in Table 1.
Filing Form I-131 based on a pending or approved Form I-821, and you are using the U.S. Postal Service (USPS): | USCIS, Attn: I-131 TPS, P.O. Box 660167, Dallas, TX 75266-0867.
You must include a copy of the receipt notice (Form I-797C) showing we accepted or approved your Form I-821
Filing Form I-131 based on a pending or approved Form I-821, and you are using FedEx, UPS, or DHL: | USCIS, Attn: I-131 TPS, 2501 S State Hwy. 121 Business, Ste. 400, Lewisville, TX 75067.
You must include a copy of the receipt notice (Form I-797C) showing we accepted or approved your Form I-821

Biometric Services Fee for TPS

Biometrics (such as fingerprints) are required for all applicants 14 years of age and older. Those applicants must submit a biometric services fee. As previously stated, if you are unable to pay the biometric services fee, you may request a fee waiver, which you may submit on Form I-912, Request for Fee Waiver. For more information on the application forms and fees for TPS, please visit the USCIS TPS web page at uscis.gov/tps. If necessary, you may be required to visit an Application Support Center to have your biometrics captured. For additional information on the USCIS biometric screening process, please see the USCIS Customer Profile Management Service Privacy Impact Assessment, available at dhs.gov/privacy.

General Employment-Related Information for TPS Applicants and Their Employers

How can I obtain information on the status of my TPS application and EAD request?

To get case status information about your TPS application, as well as the status of your TPS-based EAD request, you can check Case Status Online at uscis.gov, or visit the USCIS Contact Center at uscis.gov/contactcenter. If your Form I-765 has been pending for more than 90 days, and you still need assistance, you may ask a question about your case online at egov.uscis.gov/e-request/Intro.do or call the USCIS Contact Center at 800-375-5283 (TTY 800-767-1833).

Am I eligible to receive an automatic extension of my current EAD through September 30, 2023, using this Federal Register notice?

Yes. Regardless of your country of birth, provided that you currently have a Syria TPS-based EAD that has the notation A-12 or C-19 under Category and a “Card Expires” date of September 30, 2022, March 31, 2021, September 30, 2019, or March 31, 2018, this Federal Register notice automatically extends your EAD through September 30, 2023. Although this Federal Register notice automatically extends your EAD through September 30, 2023, you must re-register timely for TPS in accordance with the procedures described in this Federal Register notice to maintain your TPS and employment authorization.

When hired, what documentation may I show to my employer as evidence of identity and employment authorization when completing Form I-9?

You can find the Lists of Acceptable Documents on the last page of Form I-9, Employment Eligibility Verification, as well as the Acceptable Documents web page at uscis.gov/i-9-central/acceptable-documents. Employers must complete Form I-9 to verify the identity and employment authorization of all new employees. Within three days of hire, employees must present acceptable documents to their employers as evidence of identity and employment authorization to satisfy Form I-9 requirements.

You may present any document from List A (which provides evidence of both identity and employment authorization) or one document from List B (which provides evidence of your identity) together with one document from List C (which provides evidence of employment authorization), or you may present an acceptable receipt as described in the Form I-9 Instructions. Employers may not reject a document based on a future expiration date. You can find additional information about Form I-9 on the I-9 Central web page at uscis.gov/I-9Central. An EAD is an acceptable document under List A. See the section “How do my employer and I complete Form I-9 using my automatically extended EAD for a new job?” of this Federal Register notice for further information. If your EAD states A-12 or C-19 under Category and has a Card Expires date of September 30, 2022, March 31, 2021, September 30, 2019, or March 31, 2018, it has been extended automatically by virtue of this Federal Register notice and you may choose to present your EAD to your employer as proof of identity and employment eligibility for Form I-9 through September 30, 2023, unless your TPS has been withdrawn or your request for TPS has been denied. Your country of birth notated on the EAD does not have to reflect the TPS designated country of Syria for you to be eligible for this extension.

What documentation may I present to my employer for Form I-9 if I am already employed but my current TPS-related EAD is set to expire?

Even though we have automatically extended your EAD, your employer is required by law to ask you about your continued employment authorization. Your employer may need to re-inspect your automatically extended EAD to check the “Card Expires” date and Category code if your employer did not keep a copy of your EAD when you initially presented it. Once your employer has reviewed the “Card Expires” date and Category code, your employer should update the EAD expiration date in Section 2 of Form I-9. See the section “What updates should my current employer make to Form I-9 if my EAD has been automatically extended?” of this Federal Register notice for further information. You may show this Federal Register notice to your employer to explain what to do for Form I-9 and to show that USCIS has automatically extended your EAD through September 30, 2023, but you are not required to do so. The last day of the automatic EAD extension is September 30, 2023. Before you start work on October 1, 2023, your employer is required by law to reverify your employment authorization on Form I-9. By that time, you must present any document from List A or any document from List C on Form I-9 Lists of Acceptable Documents, or an acceptable List A or List C receipt described in the Form I-9 instructions to reverify employment authorization.

Your employer may not specify which List A or List C document you must present and cannot reject an acceptable receipt.

If I have an EAD based on another immigration status, can I obtain a new TPS-based EAD?

Yes, if you are eligible for TPS, you can obtain a new TPS-based EAD, regardless of whether you have an EAD or work authorization based on another immigration status. If you want to obtain a new TPS-based EAD valid through March 31, 2024, then you must file Form I-765, Application for Employment Authorization, and pay the associated fee (unless USCIS grants your fee waiver request).

Can my employer require that I provide any other documentation such as evidence of my status or proof of my Syrian citizenship or a Form I-797C showing that I registered for TPS for Form I-9 completion?

No. When completing Form I-9, employers must accept any documentation you choose to present from the Form I-9 Lists of Acceptable Documents that reasonably appears to be genuine and that relates to you, or an acceptable List A, List B, or List C receipt. Employers need not reverify List B identity documents. Employers may not request proof of Syrian citizenship or proof of registration for TPS when completing Form I-9 for new hires or reverifying the employment authorization of current employees. If you present an EAD that USCIS has automatically extended, employers should accept it as a valid List A document so long as the EAD reasonably appears to be genuine and to relate to you. Refer to the “Note to Employees” section of this Federal Register notice for important information about your rights if your employer rejects lawful documentation, requires additional documentation, or otherwise discriminates against you based on your citizenship or immigration status, or your national origin.

How do my employer and I complete Form I-9 using my automatically extended EAD for a new job?

When using an automatically extended EAD to complete Form I-9 for a new job before October 1, 2023:

1. For Section 1, you should:

a. Check “An alien authorized to work until” and enter September 30, 2023, as the “expiration date”; and

b. Enter your USCIS number or A-Number where indicated. (Your EAD or other document from DHS will have your USCIS number or A-Number printed on it; the USCIS number is the same as your A-Number without the A prefix.)

2. For Section 2, employers should:

a. Determine if the EAD is auto-extended by ensuring it is in category A-12 or C-19 and has a “Card Expires” date of September 30, 2022, March 31, 2021, September 30, 2019, or March 31, 2018;

b. Write in the document title;

c. Enter the issuing authority;

d. Provide the document number; and

e. Write September 30, 2023, as the expiration date.

Before the start of work on October 1, 2023, employers must reverify the employee's employment authorization on Form I-9.

What updates should my current employer make to Form I-9 if my EAD has been automatically extended?

If you presented a TPS-related EAD that was valid when you first started your job and USCIS has now automatically extended your EAD, your employer may need to re-inspect your current EAD if they do not have a copy of the EAD on file. Your employer should determine if your EAD is automatically extended by ensuring that it contains Category A-12 or C-19 on the front of the card and has a “Card Expires” date of September 30, 2022, March 31, 2021, September 30, 2019, or March 31, 2018. The employer may not rely on the country of birth listed on the card to determine whether you are eligible for this extension.

If your employer determines that USCIS has automatically extended your EAD, your employer should update Section 2 of your previously completed Form I-9 as follows:

1. Write EAD EXT and September 30, 2023, as the last day of the automatic extension in the Additional Information field; and

2. Initial and date the correction.

Note: This is not considered a reverification. Employers do not reverify the employee until either the one-year automatic extension has ended, or the employee presents a new document to show continued employment authorization, whichever is sooner. By October 1, 2023, when the employee's automatically extended EAD has expired, employers are required by law to reverify the employee's employment authorization on Form I-9.

If I am an employer enrolled in E-Verify, how do I verify a new employee whose EAD has been automatically extended?

Employers may create a case in E-Verify for a new employee by entering the number from the Document Number field on Form I-9 into the document number field in E-Verify. Employers should enter September 30, 2023, as the expiration date for an EAD that has been extended under this Federal Register notice

If I am an employer enrolled in E-Verify, what do I do when I receive a “Work Authorization Documents Expiring” alert for an automatically extended EAD?

E-Verify automated the verification process for TPS-related EADs that are automatically extended. If you have employees who provided a TPS-related EAD when they first started working for you, you will receive a “Work Authorization Documents Expiring” case alert when the auto-extension period for this EAD is about to expire. Before this employee starts work on October 1, 2023, you must reverify their employment authorization on Form I-9. Employers may not use E-Verify for reverification.

Note to All Employers

Employers are reminded that the laws requiring proper employment eligibility verification and prohibiting unfair immigration-related employment practices remain in full force. This Federal Register notice does not supersede or in any way limit applicable employment verification rules and policy guidance, including those rules setting forth reverification requirements. For general questions about the employment eligibility verification process, employers may call USCIS at 888-464-4218 (TTY 877-875-6028) or email USCIS at I-9Central@uscis.dhs.gov. USCIS accepts calls and emails in English and many other languages. For questions about avoiding discrimination during the employment eligibility verification process (Form I-9 and E-Verify), employers may call the U.S. Department of Justice, Civil Rights Division, Immigrant and Employee Rights Section (IER) Employer Hotline at 800-255-8155 (TTY 800-237-2515). IER offers language interpretation in numerous languages. Employers may also email IER at IER@usdoj.gov.

Note to Employees

For general questions about the employment eligibility verification process, employees may call USCIS at 888-897-7781 (TTY 877-875-6028) or email USCIS at I-9Central@uscis.dhs.gov. USCIS accepts calls in English, Spanish and many other languages. Employees or job applicants may also call the IER Worker Hotline at 800-255-7688 (TTY 800-237-2515) for information regarding employment discrimination based on citizenship, immigration status, or national origin, including discrimination related to Form I-9 and E-Verify. The IER Worker Hotline provides language interpretation in numerous languages.

To comply with the law, employers must accept any document or combination of documents from the Lists of Acceptable Documents if the documentation reasonably appears to be genuine and to relate to the employee, or an acceptable List A, List B, or List C receipt as described in the Form I-9 Instructions. Employers may not require extra or additional documentation beyond what is required for Form I-9 completion. Further, employers participating in E-Verify who receive an E-Verify case result of “Tentative Nonconfirmation” (TNC) must promptly inform employees of the TNC and give such employees an opportunity to contest the TNC. A TNC case result means that the information entered into E-Verify from Form I-9 differs from records available to DHS.

Employers may not terminate, suspend, delay training, withhold or lower pay, or take any adverse action against an employee because of a TNC while the case is still pending with E-Verify. A Final Nonconfirmation (FNC) case result is received when E-Verify cannot confirm an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at justice.gov/ier and the USCIS and E-Verify websites at uscis.gov/i-9-central and e-verify.gov.

Note Regarding Federal, State, and Local Government Agencies (Such as Departments of Motor Vehicles)

For Federal purposes, TPS beneficiaries presenting an automatically extended EAD referenced in this Federal Register notice do not need to show any other document, such as an I-797C Notice of Action or this Federal Register notice, to prove that they qualify for this extension. While Federal Government agencies must follow the guidelines laid out by the Federal Government, State and local government agencies establish their own rules and guidelines when granting certain benefits. Each state may have different laws, requirements, and determinations about what documents you need to provide to prove eligibility for certain benefits. Whether you are applying for a Federal, State, or local government benefit, you may need to provide the government agency with documents that show you are a TPS beneficiary, show you are authorized to work based on TPS or other status, or may be used by DHS to determine if you have TPS or another immigration status. Examples of such documents are:

• Your current EAD with a TPS category code of A12 or C19, even if your country of birth noted on the EAD does not reflect the TPS designated country of Syria;

• Your Form I-94, Arrival/Departure Record;

• Your Form I-797, Notice of Action, reflecting approval of your Form I-765; or

• Form I-797, Notice of Action, reflecting approval or receipt of a past or current Form I-821, if you received one from USCIS.

Check with the government agency regarding which document(s) the agency will accept. Some benefit-granting agencies use the SAVE program to confirm the current immigration status of applicants for public benefits.

While SAVE can verify when an individual has TPS, each agency's procedures govern whether they will accept an unexpired EAD, Form I-797, or Form I-94, Arrival/Departure Record. If an agency accepts the type of TPS-related document you are presenting, such as an EAD, the agency should accept your automatically extended EAD, regardless of the country of birth listed on the EAD. It may assist the agency if you:

a. Present the agency with a copy of the relevant Federal Register notice showing the extension of TPS-related documentation in addition to your recent TPS-related document with your A-Number, USCIS number, or Form I-94 number;

b. Explain that SAVE will be able to verify the continuation of your TPS using this information; and

c. Ask the agency to initiate a SAVE query with your information and follow through with additional verification steps, if necessary, to get a final SAVE response verifying your TPS.

You can also ask the agency to look for SAVE notices or contact SAVE if they have any questions about your immigration status or automatic extension of TPS-related documentation. In most cases, SAVE provides an automated electronic response to benefit-granting agencies within seconds, but occasionally verification can be delayed. You can check the status of your SAVE verification by using CaseCheck at save.uscis.gov/casecheck/. CaseCheck is a free service that lets you follow the progress of your SAVE verification case using your date of birth and one immigration identifier number (A-Number, USCIS number, or Form I-94 number) or Verification Case Number. If an agency has denied your application based solely or in part on a SAVE response, the agency must offer you the opportunity to appeal the decision in accordance with the agency's procedures. If the agency has received and acted on or will act on a SAVE verification and you do not believe the SAVE response is correct, the SAVE website, www.uscis.gov/save, has detailed information on how to make corrections or update your immigration record, make an appointment, or submit a written request to correct records.

[FR Doc. 2022-16508 Filed 7-29-22; 8:45 am]

BILLING CODE 9111-97-P